DEPARTMENT OF HEALTH AND HUMAN SERVICES

Administration for Children and Families

Children's Bureau Proposed Research Priorities for Fiscal Years 2006-2008

AGENCY: Administration on Children, Youth and Families (ACYF), Administration for Children and Families (ACF), U.S. Department of Health and Human Services (HHS).

ACTION: Response to Notice of Proposed Child Abuse and Neglect Research Priorities for Fiscal Years 2006-2008.

SUMMARY: The Children's Bureau solicited comments from the public on the Proposed Research Priorities for Fiscal Years 2006-2008 in Volume 71, Number 23 of the Federal Register on February 3, 2006. Comments were due by April 4, 2006. All comments received by the deadline were reviewed and given consideration in the preparation of this notice.

Summary of Public Comments

Section 104 (a)(4) of the Child Abuse Prevention and Treatment Act (CAPTA), as amended by the Keeping Children and Families Safe Act of 2003, Public Law (Pub. L.). 108-36, requires the Secretary of the U.S. Department of Health and Human Services (HHS) to publish proposed priorities for research activities for public comment and to maintain an official record of such public comment. In response to this requirement, proposed priorities were published in February 2006 for public comment and the responses received are detailed in this document.

The Children's Bureau received over a dozen written responses from a variety of sources; State protection and advocacy systems; community agencies for children and families; national, State and local associations and non-profit organizations; universities; hospitals; children”s medical centers; mental health services agencies; agencies serving children with disabilities; and private citizens.

Legislative Topics

One response commented on the proposed research topic of the causes of child abuse and neglect. The commenter noted this issue as a high priority, suggested that understanding the cause of child abuse and neglect is central to understanding the dynamics of the issues as a whole, and necessary for designing effective prevention and intervention services. In contradiction to this comment, another set of comments received ranked causes of abuse and neglect as a low priority and suggested that there has been a wealth of research conducted in this area.

A comment was received in response to the proposed research topic on the socio-economic distinctions and consequences of child abuse and neglect. The commenter suggested issues surrounding cultural and socio-economic distinctions be studied in more depth given the recent studies on overrepresentation of children of color in the child welfare and juvenile justice systems. The commenter suggested that a longitudinal study be conducted on this issue, and determination of how culture, ethnicity and race play into the identification, assessment, prevention and treatment and the consequences faced by families of color as a result of involvement with the child protection system.

A number of comments were received in response to the proposed research priority on the identification of successful early intervention services or other needed services; these responses supported the Children's Bureau's attention to this area.

The evaluation and dissemination of best practices was mentioned in a number of responses. One response supported proposed research on State-level strategies to improve child protection systems under this topic area. Another commenter noted that attention to “what works” in child protection and child welfare services has reached a “new low,” and greater support is needed in establishing a body of evidence about effective services.

A number of comments were received in response to paragraphs (1) through (14), under the heading of the evaluation and dissemination of best practices consistent with the goals of achieving improvements in child protective services systems of the States in accordance with CAPTA [Section 106(a), Grant to States for Child Abuse and Neglect Prevention and Treatment Program].

A comment was received encouraging that priority be given to paragraph (ii): Creating and improving the use of multidisciplinary teams and interagency protocol to enhance investigation, and improving legal preparation and representation.

Another comment was received encouraging that priority be given to paragraph (iv): Enhancing the general child protective system by developing, improving and implementing risk and safety assessment tools and protocols. This response specifically requested research on differential response in child protective services.

One comment was received related to paragraph (x): Developing, implementing or operating programs to assist in obtaining or coordinating necessary services for families of disabled infants with life-threatening conditions. The comment received related to this paragraph noted the lack of mention given to issues related to persons with disabilities, specifically parents with disabilities or to children with disabilities (beyond this mention of disabled infants). Additional attention to this response can be found below in the field-initiated research area.

One comment was received in response to paragraph (xi): Developing and delivering information to improve public education relating to the role and responsibilities of the child protection system and the nature and basis for reporting suspected incidents of child abuse and neglect. This commenter noted that mandated reporters often experience confusion as to their responsibility to report suspected child abuse or neglect, even after receiving training in this area. Due to the severity of child abuse and neglect and the consequences at stake, the commenter suggested additional research be conducted to explore better ways to develop and deliver training and information to mandated reporters and the public.

A comment was received encouraging that priority be given to paragraph (xii): Developing and enhancing the capacity of community-based programs to integrate shared leadership strategies between parents and professionals to prevent and treat child abuse and neglect at the neighborhood level.

One response was a comment encouraging that priority be given to paragraph (xiii): Supporting and enhancing interagency collaboration between the child protection system and the juvenile justice system for improved delivery of services and treatment, including methods for continuity of treatment plans and services as children transition between systems.

Two responses were submitted in response to paragraph (xiv): Supporting and enhancing collaboration among public health agencies, the child protection system and private community-based programs to provide child abuse and neglect prevention and treatment services (including linkages with education systems) and to address the health needs, including mental health needs, of children identified as abused or neglected, including supporting prompt, comprehensive health and developmental evaluations for children who are the subject of substantiated child maltreatment reports. One response suggested researching the use of differential response in child protective services in reference to this priority area, focused on collaboration among child protection systems and other public and private agencies.

Other Topics

A number of comments addressed the priority area of prevention practices. Responses were received noting particular interest in effective child abuse and neglect prevention practices, supporting focused research to enlarge the knowledge base in this area. Responses were received stating support for the approach included in the CAPTA amendments for “an evaluation of the redundancies and gaps in services in the field of child abuse and neglect prevention in order to make better use of resources.” Two comments received suggest that prevention research be the highest priority, and strongly supported the Bureau's emphasis on prevention. Another comment supported the Children's Bureau priority of the evaluation of services to prevent abuse and the recurrence of abuse. Attention to home visitation as a prevention strategy is suggested by two commenters. The use of respite care is suggested in one submission. Research on respite, particularly used to support families of children with disabilities is the focus of this comment.

In response to the priority area of child protection systems, a comment was received in regards to disproportionality within child welfare and as noted earlier, comments were received in terms of collaborative efforts among service providers targeting children involved in the child welfare system or at risk of involvement.

A number of responses were directed at the services research priority area. Comments were received supporting assessment of services needed by and provided to children and families. One commenter responded encouraging the prioritization of research in the identification of early intervention services and the assessment and provision of services to children and families, and the analysis of services provided to victims of child maltreatment and the response of protective services to children's mental health issues. As noted earlier in terms of best practices, a response supported attention to “what works” in child protective and child welfare services. This commenter also supported the assessment of services provided to children and families and the relationship of these services to outcomes, as outlined in the proposed research priorities. This commenter suggested that little is known about the services provided to children and families, and encouraged furthering this concept to encompass the inclusion of documentation for services received by in-home and community service cases.

A comment was received related to the provision of legal services for children, specifically legal counsel. It suggested research to examine state and local policies for appointing legal representation for children in court proceedings, and to analyze disparities in outcome for children who are or are not appointed legal counsel.

A comment was submitted encouraging research in the area of service provision to both children and parents with mental health needs.

One comment was received in response to the proposed program evaluation of priority area initiatives (or Evaluation of Programs Addressing Administration Priorities). This comment expressed support of the evaluation of effectiveness of healthy marriage promotion and fatherhood initiatives to prevent child abuse and neglect.

Two comments were received in response to the proposed research area entitled Perpetrators. Specifically, one comment supported research in the area of characterizations of perpetrators to inform more effective intervention and prevention efforts. One commenter submitted a response supporting the pre-existing item “research on perpetrators and their patterns of perpetrating behaviors,” and supporting integrating recognition of perpetrator subgroups though the research priorities.

Additional Comments

Finally, several respondents recommended additional areas of research. In addition to supporting the research priorities already outlined by the Children's Bureau, a number of additional suggestions were submitted.

Research related to the CAPTA requirement linked to IDEA Part C was noted by three commenters. Research in the area of privatization, specifically in terms of cost effectiveness and efficiency (noting workload and workforce issues) was submitted in response to this solicitation for comment.

A response was received encouraging that attention be paid to the documentation of in-home or community-based services and the lack of a data collection systems for these services.

Research projects focusing on attention to risk factors associated with child abuse and neglect, including domestic violence, substance abuse, mental health issues, poverty and perpetrators experience as a victim of child abuse were submitted as a comment.

One response encouraged research on the effectiveness of supervised visitation programs and trauma and the engagement of caregivers in treatment of trauma.

Comments were received including research in the areas of non-violent households and research on corporal and physical punishment as they relate to child maltreatment.

Two comments were received on research in the field of disabilities, for children faced with disabilities and parents with disabilities involved in the child welfare system.

A comment was received supporting research to ascertain the prevalence of fetal alcohol syndrome (FAS) and fetal alcohol spectrum disorder (FASD) in the foster care population, research on the development of a protocol of services for children in the foster care system diagnosed with FAS/FASD, and a longitudinal study on the impact of intervention, treatment and services on children in foster care diagnosed with FAS/FASD.

Conclusion

Throughout the Fiscal Years 2006-2008, the Children's Bureau will address these proposed priorities, taking into consideration the public comments and current funding cycles in drafting future announcements. All grant applications will be posted electronically each every fiscal year at http://www.grants.gov.

Joan E. Ohl,
Commissioner, Administration on Children, Youth and Families.

[FR Doc. 06-7364 Filed 8-30-06; 8:45 am]

BILLING CODE 4184-01-P